OFFICE OF PERSONNEL MANAGEMENT

5 CFR Part 213

RIN 3206-AJ53

Excepted Service—Schedule A Authority for Chinese, Japanese, and Hindu Interpreters

AGENCY: Office of Personnel Management

ACTION: Final regulations.

SUMMARY: The Office of Personnel Management (OPM) is revoking the Schedule A excepted service appointing authority for Chinese, Japanese and Hindu interpreters because the conditions justifying the original exception no longer exist. Revocation brings the positions filled under this Schedule A authority into the competitive service. it also permits the noncompetitive conversion of persons serving under the authority to either competitive or excepted service appointments.

DATES: Effective date: November 21, 2002.

Compliance date: Agencies may move any incumbents from § 213.3102(f) authority by February 19, 2003.

FOR FURTHER INFORMATION CONTACT: Christina Vay on 202-606-0960.

SUPPLEMENTARY INFORMATION: The Governmentwide Schedule A authority, 5 CFR 212.3102(f), was established in 1903. Competitive examining to fill Federal jobs has changed drastically in the almost 100 years since this authority's creation. Agencies can now successfully examine for positions with specific language requirements. They already do so for interpreters of many languages, including Chinese, Japanese, and Hindu.

Proposed regulations were published January 23, 2002 (67 FR 3128). We received two comments from agencies supporting the revocation. Because we did not received comments to support continuing the authority, we are continuing with our proposal to revoke it.

Agencies may no longer appoint persons under this authority as of November 21, 2002. Agencies will have 90 days from the date of publication to move the employees currently serving under § 213.3102(f) to the competitive service. The authority to retain persons in the competitive service based on revocation of an excepted appointing authority is 5 CFR 316.702.

We recognize the fact that agencies have critical workforce skill gaps for positions requiring foreign language skills. The General Accounting Office reported this in their January 2002 report on correcting foreign language staffing and proficiency shortfalls. However, almost all of the agencies identified in the report operate different personnel systems that do not follow OPM regulations. Consequently, the Schedule A we are revoking does not affect or help their efforts to fill the skill gaps.

Regulatory Flexibility Act

I certify that these regulations will not have a significant economic impact on a substantial number of small entities because the regulations pertain only to Federal employees and agencies.

Executive Order 12866, Regulatory Review

This rule has been reviewed by the Office of Management and Budget in accordance with Executive Order 12866.

List of Subjects in 5 CFR Part 213

Government employees. Reporting and recordkeeping requirements.

Office of Personnel Management.
Kay Coles James,
Director.

Accordingly, OPM is amending 5 CFR part 213 as follows:

PART 213—EXCEPTED SERVICE

1. The authority citation for part 213 is revised to read as follows:

Authority: 5 U.S.C. 3301 and 3302, E.O. 10577, 3 CFR 1954-1958 Comp., p. 218; § 213.101 also issued under 5 U.S.C. 2103; § 213.102 also issued under 5 U.S.C. 3301, 3302, 3307, 8337(h) and 8456; E.O. 12364, 47 FR 22931, 3 CFR 1982 Comp., p. 185; 38 U.S.C. 4301 et seq.; and Pub. L. 106-117 (113 Stat. 1545).

§ 213.3102 [Amended]

2. Paragraph (f) of § 213.3102 is removed and reserved.

[FR Doc. 02-29440 Filed 11-20-02; 8:45 am]

BILLING CODE 6325-38-M